DEPARTMENT OF ENERGY

U.S. Energy Information Administration

Agency Information Collection Extension

AGENCY: U.S. Energy Information Administration (EIA), U.S. Department of Energy.

ACTION: Notice and request for OMB review and comment.

SUMMARY: EIA has submitted a request to the Office of Management and Budget (OMB) to revise a currently-approved data collection under the provisions of the Paperwork Reduction Act of 1995. EIA proposes the following changes to Form EIA-886, Annual Survey of Alternative Fueled Vehicles, data collection: (1) The addition of a new vehicle classification code to allow EIA to capture data on plug-in hybrid electric vehicles (PHEVs), which are new to the alternative fuel industry, and (2) the redesign of the questionnaire for the purposes of improving data quality and reducing reporting burdens on respondents to the data collection.

The Form EIA-886 data are collected from suppliers and users of alternative-fueled vehicles (AFVs). EIA uses data from these groups as a basis for estimating total AFV and alternative transportation fuel (ATF) use in the U.S. These data serve as market analysis tools for federal/state agencies, AFV suppliers, vehicle fleet managers, and other interested organizations and persons. The data are used to satisfy the annual reporting requirements to Congress by providing statistical measures on the extent to which the objectives of the Energy Policy Act of 1992 are being achieved. These data are also needed to satisfy numerous public requests for detailed information on AFVs and ATFs (in particular, the number of AFVs distributed by state, as well as the amount and location of the ATFs being consumed).

DATES: Comments regarding this collection must be received on or before December 27, 2012. If you anticipate that you will be submitting comments, but find it difficult to do so within the period of time allowed by this notice, please advise the DOE Desk Officer at OMB of your intention to make a submission as soon as possible. The Desk Officer may be telephoned at 202-395-4718 or contacted by email at chad_s_whiteman@omb.eop.gov.

ADDRESSES: Written comments should be sent to the:

DOE Desk Officer, Office of Information and Regulatory Affairs, Office of Management and Budget, New Executive Office Building, Room 10102, 735 17th Street, NW., Washington, DC 20503,

and to

Cynthia Amezcua, U.S. Energy Information Administration, EI-22, 1000 Independence Avenue SW., Washington, DC 20585, Fax 202-586-9753, cynthia.amezcua@eia.gov.

FOR FURTHER INFORMATION CONTACT: Requests for additional information or copies of the information collection instrument and instructions should be directed to Cynthia Amezcua by phone at 202-586-1658 or by email at the address listed, above. The collection instrument and instructions are also available on the Internet at:

Purpose & Instructions | https://eiaweb.inl.gov/clearance2012/eiaweb-frm886Inst.png
Part 1: Identification | https://eiaweb.inl.gov/clearance2012/eiaweb-frm886P1.png
Part 2: Data from Users | https://eiaweb.inl.gov/clearance2012/eiaweb-frm886P2.png
Part 2: Data from Users (with fuel type drop down) | https://eiaweb.inl.gov/clearance2012/eiaweb-frm886P2-wFuelConfigs.png
Part 3: Data from Suppliers | https://eiaweb.inl.gov/clearance2012/eiaweb-frm886P3.png
Part 3: Data from Suppliers (with fuel type drop down) | https://eiaweb.inl.gov/clearance2012/eiaweb-frm886P3-wFTypeConfig.png
Code Reference Sheet | https://eiaweb.inl.gov/clearance2012/eiaweb-frm886CodeRef.png
Definitions | https://eiaweb.inl.gov/clearance2012/eiaweb-frm886Defs.png
Sanctions, Burden & Confidentiality | https://eiaweb.inl.gov/clearance2012/eiaweb-frm886Info.png

SUPPLEMENTARY INFORMATION: This information collection request contains:

(1) OMB No. 1905-0191;

(2) Information Collection Request Title: Annual Survey of Alternative Fueled Vehicles;

(3) Type of Request: Revision of currently approved collection;

(4a) Purpose: Form EIA-886 is an annual survey that collects information on the number and type of AFVs and other advanced technology vehicles that vehicle suppliers made available in the previous calendar year and plan to make available in the following calendar year; the number, type and geographic distribution of AFVs in use in the previous calendar year; and the amount and distribution of each type of ATF consumed in the previous calendar year. Form EIA-886 data are collected from suppliers and users of AFVs.

EIA uses data from these groups as a basis for estimating total AFV and ATF use in the U.S. These data are needed by federal and state agencies, fuel suppliers, transit agencies and other fleets to determine if sufficient quantities of AFVs are available for purchase and to provide Congress with a measure of the extent to which the objectives of the Energy Policy Act of 1992 are being achieved. These data satisfy the reporting requirements to Congress under Section 503(b)(2) of the Energy Policy Act of 1992 and serve as market analysis tools for federal/state agencies, AFV suppliers, vehicle fleet managers, and other interested organizations and persons. These data are also needed to satisfy numerous public requests for detailed information on AFVs and ATFs (in particular, the number of AFVs distributed by State, as well as the amount and location of the ATFs being consumed).

EIA publishes summary information from the Form EIA-886 database in an annual Alternative Fuel Vehicle Data report on EIA's Web site (http://www.eia.gov/renewable/afv/). This report covers historical and projected supplies of AFVs, AFV usage by selected user groups, and estimates of total U.S. AFV counts and U.S. consumption of ATFs. These data provide baseline inputs for DOE's transportation sector energy models and the energy consumption measures for ATFs in EIA's State Energy Data System. For example, EIA's National Energy Modeling System (NEMS) has a component model that forecasts transportation sector energy consumption and provides a framework for AFV policy and technology analysis. The data obtained from Form EIA-886 are used to improve the explanatory power of the NEMS Transportation Demand Model by allowing for greater detail in representing AFV types and characteristics;

(4b) Proposed Changes to Information Collection: EIA proposes to modify the drop-down selection menus under Form EIA-886 Parts 2 and 3 to include the fuel type/engine configuration code “EVC-PH” to capture data on plug-in hybrid electric vehicles (PHEV). PHEVs are considered alternative fueled vehicles under the Energy Policy Act of 1992 definition of an alternative fueled vehicle because their primary fuel source is electricity; however, PHEVs differ from straight battery-powered electric vehicles because they use the electric battery as the primary energy source, relying on battery power for propulsion for a limited range (15-40 miles) before switching to internal combustion propulsion. Currently, EIA collects data on electric battery-powered vehicles with the code “EVC BP.” Adding the code “EVC PH” will differentiate between straight battery-powered AFVs and PHEVs.

EIA also proposes reformatting the Form EIA-886 to better use visual design to reduce the respondent's burden, while not changing the existing constructs being measured on the form. For example, instructions will be placed next to the questions where they are needed, and dense paragraphs will be broken up into bullet-pointed lists. Survey methodology literature and empirical evidence from cognitive testing of other forms suggests these changes, along with formatting edits, should allow respondents to read and more easily process the information.

(5) Type of Respondents: Suppliers of alternative-fueled vehicles are required to report;

(6) Annual Estimated Number of Respondents: 2,050;

(7) Annual Estimated Number of Total Responses: 2,050;

(8) Annual Estimated Number of Burden Hours: 8,215;

(9) Annual Estimated Reporting and Recordkeeping Cost Burden: No additional costs beyond burden hours are anticipated from the proposed collection instrument revision.

Statutory Authority

The legal authority for this data collection effort is provided by the following provisions: Section 13(b) of the Federal Energy Administration Act of 1974, Public Law 93-275, (FEA Act), and codified at 15 U.S.C. § 772 (b), and Section 503(b)(2) of the Energy Policy Act of 1992, Public Law 102-486 (EPACT92) codified at 42 U.S.C. 13253.

Issued in Washington, DC, on November 20, 2012.
Stephanie Brown,
Director, Office of Survey Development and Statistical Integration, U.S. Energy Information Administration.

[FR Doc. 2012-28700 Filed 11-26-12; 8:45 am]

BILLING CODE 6450-01-P